ENVIRONMENTAL PROTECTION AGENCY

40 CFR Parts 52, 78, and 97

[EPA-HQ-OAR-2015-0500; FRL-9939-17-OAR]

Cross-State Air Pollution Rule Update for the 2008 Ozone NAAQS

AGENCY: Environmental Protection Agency (EPA).

ACTION: Notice of public hearing.

SUMMARY: The Environmental Protection Agency (EPA) is announcing a public hearing to be held for the proposed rule “Cross-State Air Pollution Rule Update for the 2008 Ozone NAAQS” which will publish in the Federal Register. The hearing will be held on Thursday, December 17, 2015, in Washington, DC.

DATES: The public hearing will be held on December 17, 2015.

ADDRESSES: The public hearing will be held at the Environmental Protection Agency, William Jefferson Clinton East Building, Main Floor Room 1153, 1201 Constitution Avenue NW. in Washington, DC 20460. The public hearing will convene at 9:00 a.m. EST and continue until 8:00 p.m. EST or one hour after the last registered speaker has spoken, whichever is earlier. The EPA will make every effort to accommodate all speakers that arrive and register. Because this hearing is being held at a U.S. government facility, individuals planning to attend the hearing should be prepared to show valid picture identification to the security staff in order to gain access to the meeting room. No large signs will be allowed in the building, cameras may only be used outside of the building, and demonstrations will not be allowed on federal property for security reasons. The EPA Web site for the rulemaking, which includes the proposal and information about the public hearing, can be found at: http://www2.epa.gov/airmarkets/proposed-cross-state-air-pollution-update-rule.

FOR FURTHER INFORMATION CONTACT: If you would like to present oral testimony at the public hearing, please register online at http://www2.epa.gov/airmarkets/proposed-cross-state-air-pollution-update-rule or contact Ms. Gabrielle Stevens, U.S. Environmental Protection Agency, Office of Atmospheric Programs, Clean Air Markets Division, (MS 6204-M), 1200 Pennsylvania Avenue NW., Washington, DC 20460, telephone (202) 343-9252, fax number (202) 343-2359, email address: stevens.gabrielle@epa.gov (preferred method for registering), no later than 2 business days prior to the public hearing. The last day to register will be Tuesday, December 15, 2015. If using email, please provide the following information: Time you wish to speak (morning, afternoon, evening), name, affiliation, address, email address, and telephone and fax numbers.

Questions concerning the proposed “Cross-State Air Pollution Rule Update for the 2008 Ozone NAAQS” should be addressed to Mr. David Risley, U.S. EPA, Office of Atmospheric Programs, Clean Air Markets Division, (MS-6204 M), 1200 Pennsylvania Avenue NW., Washington, DC 20460; telephone number (202) 343-9177, email at risley.david@epa.gov.

SUPPLEMENTARY INFORMATION: This public hearing provides the public with an opportunity to present oral comments regarding EPA's proposed Cross-State Air Pollution Rule Update for the 2008 Ozone NAAQS, which proposes Federal Implementation Plans that identify and limit emissions of nitrogen oxides in 23 eastern states that affect the ability of downwind states to attain and maintain compliance with the 2008 ozone national ambient air quality standard (NAAQS).

Public hearing: The proposal for which EPA is holding the public hearing will be published in the Federal Register and also in docket EPA-HQ-OAR-2015-0500 and is available at http://www2.epa.gov/airmarkets/proposed-cross-state-air-pollution-update-rule. The public hearing will provide interested parties the opportunity to present data, views, or arguments concerning the proposal. The EPA may ask clarifying questions during the oral presentations, but will not respond to the presentations at that time. Written statements and supporting information submitted during the comment period will be considered with the same weight as any oral comments and supporting information presented at the public hearing.

Commenters should notify Ms. Stevens if they will need specific equipment, or if there are other special needs related to providing comments at the hearings. The EPA will provide equipment for commenters to show overhead slides or make computerized slide presentations if we receive special requests in advance. Oral testimony will be limited to 5 minutes for each commenter. The EPA encourages commenters to provide EPA with a copy of their oral testimony electronically (via email or CD) or in hard copy form.

The hearing schedules, including lists of speakers, will be posted on EPA's Web site http://www2.epa.gov/airmarkets/proposed-cross-state-air-pollution-update-rule. Verbatim transcripts of the hearings and written statements will be included in the docket for the rulemaking.

EPA will make every effort to follow the schedule as closely as possible on the day of the hearing; however, please plan for the hearing to run either ahead of schedule or behind schedule.

How can I get copies of this document and other related information?

The EPA has established a docket for the proposed “Cross-State Air Pollution Rule Update for the 2008 Ozone NAAQS” under Docket ID No. EPA-HQ-OAR-2015-0500 (available at www.regulations.gov).

Dated: November 24, 2015.
Sarah Dunham,
Director, Office of Atmospheric Programs.

[FR Doc. 2015-30489 Filed 11-30-15; 8:45 am]

BILLING CODE 6560-50-P